DEPARTMENT OF ENERGY

Federal Energy Regulatory Commission

[Project No. 12020-000]

Marseilles Hydro Power, LLC, Illinois; Notice of Availability of Environmental Assessment

March 25, 2003.

In accordance with the National Environmental Policy Act of 1969 and the Federal Energy Regulatory Commission's (Commission's) regulations, 18 CFR part 380 (Order No. 486, 52 FR 47897), the Office of Energy Projects has reviewed the application for major license for the proposed Marseilles Hydroelectric Project located in the town of Marseilles, on the Illinois River in La Salle County, Illinois, and has prepared an Environmental Assessment (EA) for the project.

The EA contains the staff's analysis of the potential environmental impacts of the project and concludes that licensing the project, with appropriate environmental protective measures, would not constitute a major federal action that would significantly affect the quality of the human environment.

A copy of the EA is available for review at the Commission in the Public Reference Room or may be viewed on the Commission's Web site at http://www.ferc.gov using the “FERRIS” link. Enter the docket number excluding the last three digits in the docket number field to access the document. For assistance, contact FERC Online Support at FERCOnlineSupport@ferc.gov or toll-free at (866)208-3676, or for TTY, contact (202)502-8659.

Any comments should be filed within 30 days from the date of this notice and should be addressed to Magalie R. Salas, Secretary, Federal Energy Regulatory Commission, 888 First Street, NE., Washington, DC 20426. Please affix Project No. 12020-000 to all comments. Comments may be filed electronically via the Internet in lieu of paper. The Commission strongly encourages electronic filings. See 18 CFR 385.2001(a)(1)(iii) and the instructions on the Commission's Web site (http://www.ferc.gov) under the “e-Filing” link.

For further information, contact Steve Kartalia at (202) 502-6131 or by E-mail at stephen.kartalia@ferc.gov.

Magalie R. Salas,
Secretary.

[FR Doc. 03-7771 Filed 3-31-03; 8:45 am]

BILLING CODE 6717-01-P